DEPARTMENT OF ENERGY

Federal Energy Regulatory Commission

Combined Notice of Filings

Take notice that the Commission has received the following Natural Gas Pipeline Rate and Refund Report filings:

Filings Instituting Proceedings

Docket Numbers: RP17-555-000.

Applicants: Texas Eastern Transmission, LP.

Description: Texas Eastern Transmission, LP submits tariff filing per 154.204: Negotiated Rates—NJR Energy—contract 911403 to be effective 4/1/2017.

Filed Date: 03/27/2017.

Accession Number: 20170327-5073.

Comment Date: 5:00 p.m. Eastern Time on Monday, April 10, 2017.

Docket Numbers: RP17-556-000.

Applicants: Kern River Gas Transmission Company.

Description: Kern River Gas Transmission Company submits tariff filing per 154.204: 2017 Adjusted P2 and Alt P2 Rates to be effective 5/1/2017.

Filed Date: 03/27/2017.

Accession Number: 20170327-5142.

Comment Date: 5:00 p.m. Eastern Time on Monday, April 10, 2017.

Docket Numbers: RP17-557-000.

Applicants: Equitrans, L.P.

Description: Equitrans, L.P. submits tariff filing per 154.204: Reservation Charge Credit Update to be effective 4/27/2017.

Filed Date: 03/27/2017.

Accession Number: 20170327-5201.

Comment Date: 5:00 p.m. Eastern Time on Monday, April 10, 2017.

Docket Numbers: RP17-558-000.

Applicants: Iroquois Gas Transmission System, L.P.

Description: Iroquois Gas Transmission System, L.P. submits tariff filing per 154.204: 03/27/17 Negotiated Rates—KeySpan Gas East dba National Grid (RTS) 550-14 to be effective 3/27/2017.

Filed Date: 03/27/2017.

Accession Number: 20170327-5208.

Comment Date: 5:00 p.m. Eastern Time on Monday, April 10, 2017.

Docket Numbers: RP17-559-000.

Applicants: Alliance Pipeline L.P.

Description: Alliance Pipeline L.P. submits tariff filing per 154.204: Seasonal Service Apr-Oct 2017 to be effective 4/1/2017.

Filed Date: 03/27/2017.

Accession Number: 20170327-5225.

Comment Date: 5:00 p.m. Eastern Time on Monday, April 10, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2017.
Kimberly D. Bose,
Secretary.

[FR Doc. 2017-06601 Filed 4-3-17; 8:45 am]

BILLING CODE 6717-01-P